DEPARTMENT OF TRANSPORTATION

Pipeline and Hazardous Materials Safety Administration

Notice of Delays in Processing of Special Permits Applications

AGENCY: Pipeline and Hazardous Materials Safety Administration (PHMSA), DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party To Exemption Request

Issued in Washington, DC, on August 7, 2012.
Donald Burger,
Chief, General Approvals and Permits.

Application No. | Applicant | Reason for delay | Estimated date of completion
Modification to Special Permits
14372-M | Kidde Aerospace and Defense, Wilson, NC | 3 | 10-31-2012
New Special Permit Applications
15080-N | Alaska Airlines, Seattle, WA | 4 | 10-31-2012
15334-N | Floating Pipeline Company Incorporated, Halifax, Nova Scotia | 3 | 09-30-2012
15504-N | FIBA Technologies, Inc., Millbury, MA | 3 | 10-31-2012
15552-N | POLY-COAT Systems, Inc., Liverpool, TX | 4 | 10-31-2012
15558-N | 3M Company, St. Paul, MN | 4 | 10-31-2012
15568-N | ATK Launch Systems, Corinne, UT | 3 | 10-31-2012
Party to Special Permits Application
15537-P | Austin Powder Company, Cleveland, OH | 4 | 10-31-2012
14372-P | L'Hotellier, France | 3 | 10-31-2012
13548-P | Interstate Battery System of The Redwoods, Eureka, CA | 4 | 10-31-2012
Renewal Special Permits Applications
12412-R | Carolina Pool Management, Charlotte, NC | 3 | 10-31-2012
11136-R | Alaska Pyrotechnics, Anchorage, AK | 3 | 10-31-2012
14313-R | Airgas, Inc., Radnor, PA | 3 | 12-31-2012
12283-R | Interstate Battery of Alaska, Anchorage, AK | 4 | 09-30-2012

[FR Doc. 2012-19830 Filed 8-15-12; 8:45 am]

BILLING CODE 4910-60-M